DEPARTMENT OF THE INTERIOR

Bureau of Land Management

[LLNVL00000.L51010000.FX0000LVRWF1000810.241A; NVN-084465; 11-08807; MO# 4500020272; TAS 14X5017]

Notice of Intent To Prepare an Environmental Impact Statement for the Proposed Wilson Creek Wind Project, Lincoln County, NV

AGENCY: Bureau of Land Management, Interior.

ACTION: Notice of Intent.

SUMMARY: In compliance with the National Environmental Policy Act (NEPA) of 1969, as amended, and the Federal Land Policy and Management Act of 1976, as amended, the Bureau of Land Management (BLM) Schell Field Office, Nevada, intends to prepare an Environmental Impact Statement (EIS) for a right-of-way (ROW) application submitted by Wilson Creek Power Partners, LLC, for a wind energy generation project and by this notice is announcing the beginning of the scoping process to solicit public input on the identification of issues. The BLM may also determine that the proposed project would require an amendment to the Ely Resource Management Plan, in which case the EIS would support any planning amendment.

DATES: This notice initiates the public scoping process for the EIS. Comments on issues may be submitted in writing until July 26, 2011. The date(s) and location(s) of any scoping meetings will be announced at least 15 days in advance through local media, newspapers and the BLM Web site at: http://www.blm.gov/nv/st/en/fo/ely_field_office.html. In order to be considered in the Draft EIS, all comments must be received prior to the close of the scoping period or 15 days after the last public meeting, whichever is later. The BLM will provide additional opportunities for public participation upon publication of the Draft EIS.

ADDRESSES: You may submit comments on issues related to the Proposed Wilson Creek Wind Project by any of the following methods:

• Web site: http://www.blm.gov/nv/st/en/fo/ely_field_office.html.

• E-mail: wilsoncreekwind@blm.gov.

• Fax: (775) 775-1918 (attention Dan Netcher).

• Mail: BLM Ely District Office, Attn: Dan Netcher, HC 33 Box 33500 Ely, NV 89301.

• In person: at the BLM Ely District Office and at any public scoping meetings on the proposal.

Documents pertinent to this proposal may be examined at the BLM Ely District Office, 702 North Industrial Way, Ely, Nevada.

FOR FURTHER INFORMATION CONTACT: Dan Netcher, Renewable Energy Project Manager, (775) 289-1872; or e-mail wilsoncreekwind@blm.gov. You may also use this contact information to request that your name be added to the project mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Wilson Creek Power Partners, LLC, has requested a ROW authorization to construct, operate, maintain, and decommission a multi-phase wind powered generation facility on approximately 31,000 acres of BLM administered public lands in Lincoln County, Nevada. The fully constructed project would consist of 336 to 373 wind turbines to be located along the ridgeline of the Wilson Creek Range approximately 20 miles northeast of the town of Pioche, Nevada. In addition to the wind turbines, other project components are expected to include buried power collection lines and communication cables, access roads, meteorological towers, substation(s) and switchyard(s), an operation and maintenance building, a single or double-circuited 120 to 230 kilovolt overhead transmission line, and portable cement batch plants and rock crushing facilities. The project is anticipated to be developed in multiple phases, with the Wilson Creek Range and Table Mountain sites composing Phase I. Phase I would consist of up to 195 wind turbines, producing 500 megawatts (MW) of electricity, depending on the selected wind turbine manufacturer. The Atlanta Summit site would compose Phase II, and the White Rock site would compose Phase III. The later phases of the project would be considered for development if the wind resource in the Atlanta Summit and White Rock areas is found to be sufficient. Additional environmental analysis would be conducted for Phases II and III of the project and any associated land use plan amendments. The purpose of the public scoping process is to determine relevant issues that will influence the scope of the environmental analysis and guide the process for developing the EIS, including the development of alternatives. The BLM has identified the following preliminary issues: Threatened and endangered species; wildlife, particularly avian species; visual resource impacts; recreation impacts; and socioeconomic effects. Authorization of this proposal may require an amendment of the Ely Resource Management Plan (2007). By this notice, the BLM is complying with requirements in 43 CFR 1610.2(c) to notify the public of potential amendments to land use plans. If a land use plan amendment is necessary, the BLM will integrate the land use planning process with the NEPA process for this project.

The BLM will use and coordinate the NEPA commenting process to satisfy the public involvement requirements of Section 106 of the National Historic Preservation Act (16 U.S.C. 470f), as provided for in 36 CFR 800.2(d)(3). Native American Tribal consultations will be conducted in accordance with BLM policy, and tribal concerns including potential impacts on Indian trust assets will be given due consideration. Federal, State, and local agencies, along with other stakeholders that may be interested in or affected by the BLM's decision(s) are invited to participate in the scoping process and, if eligible, request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Mary D'Aversa,
Manager, Schell Field Office.

[FR Doc. 2011-13010 Filed 5-26-11; 8:45 am]

BILLING CODE 4310-HC-P